ENVIRONMENTAL PROTECTION AGENCY

40 CFR Part 300

[EPA-HQ-SFUND-1986-0005; FRL-9990-15-Region 2]

National Oil and Hazardous Substances Pollution Contingency Plan; National Priorities List: Partial Deletion of the Robintech, Inc./National Pipe Co. Superfund Site

AGENCY: Environmental Protection Agency (EPA).

ACTION: Direct final rule.

SUMMARY: The Robintech, Inc./National Pipe Co. Superfund site (Site), located in the Town of Vestal, New York, includes an approximately 12.7-acre parcel of property (hereinafter, “Property”) and areas affected by the release or threat of release of hazardous substances to the west of the Property (hereinafter, “Off-Property”). This direct final partial deletion is being published by the Environmental Protection Agency (EPA), with the concurrence of the New York State Department of Environmental Conservation (NYSDEC). Because no further response actions under the Comprehensive Environmental Response, Compensation, and Liability Act (CERCLA), other than groundwater monitoring, periodic IC verification, and five-year reviews, as well as O&M activities, as necessary, are needed for the Property's overburden soil, overburden groundwater, and an approximately 9.7-acre portion of the bedrock aquifer underlying the Property (hereinafter, collectively referred to as “Proposed Deleted Portion of the Property”), EPA is issuing this Notice of Partial Deletion (NOPD) of this Site area from the National Priorities List (NPL) and requests public comments on this proposed action. However, this partial deletion does not preclude future actions under Superfund. The overburden and bedrock aquifers in the Off-Property area, and the remaining portion of the bedrock aquifer underlying the Property, will remain on the NPL and are not part of this deletion action.

DATES: This direct final partial deletion will be effective May 13, 2019 unless EPA receives adverse comments by April 12, 2019. If adverse comments are received, EPA will publish a timely withdrawal of this direct final NOPD in the Federal Register, informing the public that the partial deletion will not take effect.

ADDRESSES: Submit your comments, identified by Docket ID no. EPA-HQ-SFUND-1986-0005, by one of the following methods:

• Website: http://www.regulations.gov. Follow the online instructions for submitting comments. Once submitted, comments cannot be edited or removed from regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: granger.mark@epa.gov.

• Mail: To the attention of Mark Granger, Remedial Project Manager, Emergency and Remedial Response Division, U.S. Environmental Protection Agency, Region 2, 290 Broadway, 20th Floor, New York, NY 10007-1866.

• Hand Delivery: Superfund Records Center, 290 Broadway, 18th Floor, New York, NY 10007-1866 (telephone: 212-637-4308). Such deliveries are only accepted during the Record Center's normal hours of operation (Monday to Friday from 9:00 a.m. to 5:00 p.m.). Special arrangements should be made for deliveries of boxed information.

Instructions: Direct your comments to Docket ID no. EPA-HQ-SFUND-1986-0005. The http://www.regulations.gov website is an “anonymous access” system, which means EPA will not know your identity or contact information unless you provide it in the body of your comments. If you send comments to EPA via email, your email address will be included as part of the comment that is placed in the Docket and made available on the website. If you submit electronic comments, EPA recommends that you include your name and other contact information in the body of your comments and with any disks or CD-ROMs that you submit. If EPA cannot read your comments because of technical difficulties and cannot contact you for clarification, EPA may not be able to consider your comments fully. Electronic files should avoid the use of special characters and any form of encryption and should be free of any defects or viruses.

Docket: All documents in the Docket are listed in the http://www.regulations.gov index. Although listed in the index, some information is not publicly available, e.g., CBI or other information whose disclosure is restricted by statute. Certain other material, such as copyrighted material, will be publicly available only in hard copy. Publicly-available Docket materials can be obtained either electronically at http://www.regulations.gov or in hard copy at:

U.S. Environmental Protection Agency, Region 2, Superfund Records Center, 290 Broadway, 18th Floor, New York, NY 10007-1866, Telephone: 212-637-4308, Hours: Monday to Friday from 9:00 a.m. to 5:00 p.m.

and

Town of Vestal Public Library, 320 Vestal Parkway East, Vestal, NY 13850, Telephone: (607) 754-4244, Hours: Mon.: 2:00 p.m.-8:00 p.m., Tue-Thu: 9:00 a.m.-8:00 p.m., Fri: 9:00 a.m.-5:00 p.m., Sat: 10:00 a.m.-2:00 p.m.

FOR FURTHER INFORMATION CONTACT: Mark Granger, Remedial Project Manager, by mail at Emergency and Remedial Response Division, U.S. Environmental Protection Agency, Region 2, 290 Broadway, 20th floor, New York, NY 10007-1866; telephone at 212-637-3351; or email at granger.mark@epa.gov.

SUPPLEMENTARY INFORMATION:

Table of Contents

I. Introduction

II. NPL Deletion Criteria

III. Deletion Procedures

IV. Basis for Site Deletion

V. Deletion Action

I. Introduction

The Property at the Site contains a two-story commercial building and a warehouse and is bounded on the west by an amusement facility and fuel storage tanks, on the south by Old Vestal Road, on the east by Commerce Road, and on the north by railroad tracks. The Off-Property area extends westward toward the Susquehanna River, which is located approximately 2,500 feet from the Property.

EPA and the State of New York, through NYSDEC, have determined that no further response action under CERCLA is needed for the Proposed Deleted Portion of the Property, as defined above, and is proposing to delete this portion of the Site from the NPL. See the above-referenced docket for more information, including a figure of the Proposed Deleted Portion of the Property.

An approximately three-acre portion of the bedrock aquifer underlying the Property, bounded to the east by the western walls of the warehouse and former manufacturing building, to the south and west by the Property line, and to the north by a line extending from the northwest corner of the warehouse to the western property line (hereinafter, “Retained Portion of the Property”), as well as the overburden and bedrock aquifers in the Off-Property area, would remain on the NPL.

The NPL constitutes appendix B of 40 CFR part 300, which is the National Oil and Hazardous Substances Pollution Contingency Plan, 40 CFR part 300 (NCP), which EPA promulgated pursuant to Section 105 of CERCLA, 42 U.S.C. 9605. EPA maintains the NPL as the list of releases that appear to present a significant risk to public health, welfare, or the environment. The releases on the NPL may be the subject of remedial actions financed by the Hazardous Substance Superfund (Fund). This partial deletion of the Proposed Deleted Portion of the Property is proposed in accordance with 40 CFR 300.425(e) and is consistent with the Notice of Policy Change: Partial Deletion of Sites Listed on NPL. 60 FR 55466 (Nov. 1, 1995). As described in § 300.425(e)(3) of the NCP, and as clarified in 60 FR 55466, a site (or portion thereof) deleted from the NPL remains eligible for Fund-financed remedial action if future conditions at the site warrant such actions.

EPA Region 2 is publishing this direct final NOPD to remove the Proposed Deleted Portion of the Property from the NPL.

Section II of this document explains the criteria for deleting sites (or portions thereof) from the NPL. Section III discusses procedures that EPA is using for this action. Section IV demonstrates how the deletion criteria have been met. Section V discusses EPA's action to delete the Property's overburden soil and overburden groundwater and an approximately 9.7-acre portion of the bedrock aquifer underlying the Property from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other parties have implemented all appropriate response actions required;

ii. all appropriate Fund-financed responses under CERCLA have been implemented, and no further action by responsible parties is appropriate; or

iii. the remedial investigation has shown that the release of hazardous substances poses no significant threat to public health or the environment and, therefore, taking of remedial measures is not appropriate.

Pursuant to CERCLA Section 121(c), 42 U.S.C. 9621(c), and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to the deletion of the Proposed Deleted Portion of the Property:

(1) EPA consulted with the State of New York prior to developing this direct final NOPD and the Notice of Intent to Partially Delete (NOIPD) also published in the “Proposed Rules” section of this issue of the Federal Register.

(2) EPA has provided the State 30 working days for review of this NOPD and the parallel NOIPD prior to their publication today, and the State, through the NYSDEC, has concurred on the partial deletion of a portion of the Site from the NPL.

(3) Concurrent with the publication of this direct final NOPD, a notice of the availability of the parallel NOIPD is being published in a major local newspaper, the Press and Sun Bulletin. The newspaper notice announces the 30-day public comment period concerning the NOIPD of the Proposed Deleted Portion of the Property from the NPL.

(4) EPA placed copies of documents supporting the proposed partial deletion in the Docket and made these items available for public inspection and copying at the Site information repositories identified above.

(5) If adverse comments are received within the 30-day public comment period on this partial deletion action, EPA will publish a timely notice of withdrawal of this direct final NOPD before its effective date and will prepare a response to comments and, if appropriate, continue with the deletion process based on the NOIPD and the comments received.

Deletion of a site (or portion thereof) from the NPL does not itself create, alter, or revoke any individual's rights or obligations. Deletion of a site (or portion thereof) from the NPL does not in any way alter EPA's right to take enforcement actions, as appropriate. The NPL is designed primarily for informational purposes and to assist EPA's management of sites. Section 300.425(e)(3) of the NCP states that the deletion of a site from the NPL does not preclude eligibility for further response actions should future conditions warrant such actions.

IV. Basis for Partial Site Deletion

The following information provides the Agency's rationale for deleting the Proposed Deleted Portion of the Property from the NPL.

Site Background and History

The Site (NYD002232957) is in Vestal, a regionally important industrial center adjacent to Binghamton, New York in the Susquehanna River basin. The Property, which occupies approximately 12.7 acres, is bordered by Commerce Road and several warehouses and light industrial buildings to the east, Old Vestal Road and several residences to the south, an amusement facility and fuel storage tanks to the west, and railroad tracks to the north.

The Property and the area downgradient (i.e., to the west) of the Property is zoned industrial/commercial. With the strong presence of commercial and industrial infrastructure, future land use is anticipated to remain industrial/commercial.

The Property is located approximately half-way down the westerly face of a hill that slopes gently toward the Susquehanna River. Consistent with this, EPA field observations and examination of topographic contours indicate that the overland flow of surface water across the Property is to the west, controlled by a series of conduits and drainage ditches which direct the flow to the river, located approximately a half mile to the north and west. The area where the Site is located is not known to contain or impact any ecologically-significant habitat, wetlands, agricultural land, or historic or landmark sites.

The area has two distinct groundwater aquifers. The upper or overburden aquifer is comprised of material consisting mainly of till and is approximately 20 to 40 feet thick. In addition, fill material associated with extensive grading on-Site for storage and parking spaces ranges from zero to six feet in thickness. Groundwater is encountered within the upper aquifer unit six to twenty feet below ground surface (bgs). The lower or bedrock aquifer consists of shale with a weathered zone seven- to ten-feet thick. The primary permeability of this material is low, but the secondary permeability is much higher. Fractures along the horizontal bedding planes and vertical joints in the shale allow for groundwater flow.

Groundwater flow in the vicinity of the Site is primarily toward the west and northwest. There are no private drinking water wells in the vicinity of the Site. All residents are supplied with drinking water by the Vestal municipal well fields. One of these well fields is located downgradient of the Site near the river. None of the wells in the Vestal well fields are affected by Site-related contamination.

Remedial Investigation and Feasibility Study

Eight groundwater extraction wells were drilled on-Site between 1983 and 1984 by former Site owner/operators. These six-inch diameter wells were installed with steel casing through the till overburden formation and then finished as open bedrock holes to an average depth of 300 feet bgs. The wells provided cooling water for the operators of a pipe-production process, which was then discharged to surface water at a permitted effluent-discharge point. An effluent sample collected at the Site by NYSDEC in 1984 to verify discharge-permit compliance found volatile organic compounds (VOCs) that were not covered under the permit. Further investigations resulted in the conclusion that the contamination was coming from the bedrock groundwater beneath the Site. NYSDEC also determined that there were soil source areas in the overburden affecting groundwater in both the overburden and bedrock geologic units.

Sampling was conducted by EPA in 1985 to evaluate the Site for inclusion on the NPL. Groundwater monitoring revealed elevated concentrations of VOCs in the overburden soil and bedrock groundwater. Based on the results of this monitoring, the Site was placed on the NPL in June 1986 (51 FR 21054).

Following the listing of the Site on the NPL in 1986, a remedial investigation (RI) was performed. The RI revealed numerous VOCs in the overburden and bedrock groundwater and in overburden soils. The RI report, along with a human-health risk assessment (HHRA) and a feasibility study (FS) report, was completed in 1991.

The HHRA concluded that an unacceptable risk existed for hypothetical future residents' consumption of groundwater, driven primarily by VOCs. The hypothetical future use of both the overburden and bedrock aquifers for drinking-water purposes resulted in unacceptable risk. The ecological risk assessment concluded that no habitats or species of special concern would likely be affected by Site-related contaminants.

Selected Remedy

Following the completion of the RI/FS, a record of decision (ROD) was signed in March 1992 (1992 ROD). The 1992 ROD, also referred to as the Operable Unit One (OU1) ROD, addressed contamination present in the overburden and bedrock aquifers by extraction and treatment via air stripping. The remedial action objectives (RAOs) specified in the 1992 ROD were:

• Restore the aquifer as a potential source of drinking water by reducing contaminant levels to below the New York State and Federal Maximum Contaminant Levels (MCLs). See Table 1, below.

• Reduce or eliminate the potential for off-Site migration of contaminants.

Table 1
VOC | Cleanup goal from 1992 ROD (ppb)
1,1,1-Trichloroethane | 5.0
1,1-Dichloroethane | 5.0
Trichloroethene | 5.0
1,1-Dichloroethene | 5.0
trans-1,2-Dichloroethene | 5.0
cis-1,2-Dichloroethene | 5.0

The 1992 ROD remedy included the extraction and treatment via air stripping of contaminated bedrock and overburden groundwater.

An investigation to assess suspected elevated lead concentrations in Site soil and sediment did not reveal elevated lead concentrations in any Site media. Accordingly, a no action ROD for these soils and sediments was signed in March 1993.

The results of a preliminary remedial design (RD) investigation indicated that overburden groundwater and subsurface soils were contaminated at levels much greater than those detected during prior investigations; the contaminated subsurface soils were subsequently determined to be source areas. In addition, the pre-RD investigation concluded that the overburden-formation till was of relatively low-permeability with an extremely-low groundwater yield. Therefore, the extraction of contaminated groundwater from the overburden (the remedy selected for the overburden in the 1992 ROD) was determined not to be feasible.

An alternative approach to address the contaminated groundwater was determined to be necessary. In addition, EPA determined that the source areas in the overburden soil needed to be addressed. A ROD was signed in July 1997 (1997 ROD or OU3 ROD) which addressed source contamination present above and below the water table in the overburden in three areas of the Site. Additionally, based on the tight overburden formation, resulting in extremely low groundwater yields (approximately 0.1 gallon per minute), consistent with EPA and New York State guidance, the overburden aquifer is not usable. Therefore, the 1997 ROD also concluded that Federal and state MCLs are not applicable with respect to the overburden aquifer. As the bedrock aquifer is usable, Federal and state MCLs remain applicable with respect to that aquifer.

The RAOs specified in the 1997 ROD were:

• Mitigate the potential for contaminants to migrate from the soil into the overburden aquifer and reduce soil contamination to meet the soil cleanup objectives identified in NYSDEC's Technical and Administrative Guidance Memorandum No. 94-HWR-4046, January 1994.

• mitigate the potential for contaminants to migrate from the overburden aquifer into the bedrock aquifer.

• reduce or eliminate the threat to public health and the environment posed by groundwater contamination by remediating groundwater to MCLs for VOCs.

• reduce or eliminate the potential for off-Site migration of contaminants.

The 1997 ROD included the excavation of unsaturated- and saturated-overburden soils in three areas of the Site and treatment of VOCs using low-temperature thermal desorption; the extraction of contaminated groundwater from the bedrock aquifer through the existing production-well network until MCLs are achieved; remediation of contaminated overburden groundwater through natural attenuation processes, including chemical degradation, dilution, and dispersion, at the Property and in downgradient areas.

In August 2018, an Explanation of Significant Differences (ESD) was issued to document EPA's determination to incorporate into the remedy an institutional control to address the potential for vapor intrusion should the occupancy of the Property buildings change in the future or if there is new construction in Property or Off-Property areas.

Remedy Implementation

Negotiations between EPA and a group of potentially responsible parties (hereinafter, PRP Group) resulted in an agreement embodied in an October 1998 Consent Decree to implement the RD, construction, and operation and maintenance (O&M) of the remedy selected in the 1997 ROD.

Soil Remediation

The RD of the soil source-removal excavation and treatment was initiated in 1999 by Vertex Engineering Service, Inc. (Vertex), the contractor for the PRP Group. Following the completion of the plans and specifications, Vertex initiated the implementation of the soil remedy. The excavation, treatment, and backfilling of more than 10,000 cubic yards of VOC-contaminated soil was performed from 2000 to 2001. Post-excavation soil sampling results indicated that residual levels of VOCs in soils were below the target cleanup levels.

Groundwater Remediation

The 1997 ROD formalized a remedial strategy to address the source areas and groundwater in the overburden and provided for the continued extraction and treatment of contaminated bedrock groundwater using the existing production wells. After eliminating a conduit of contamination from the overburden into the bedrock by sealing one of the production wells in 1996, the rebuilding and upgrade of the existing bedrock extraction wells was completed in 2001. This work included installing new pumps, piping, wiring, and instrumentation for the existing production-well system. A combination of logistical circumstances, primarily, the decision by the operator of the Property to discontinue the use of the extracted groundwater as cooling water in its pipe manufacturing process resulted in the system being shut down in 2003. In 2005, after the completion of negotiations between EPA, the PRP Group, and the property owner, carbon treatment was added to the bedrock-groundwater extraction and treatment system, and operation of the system resumed. The Property owner operated the system on behalf of the PRP Group until May 2014, when the system, which had treated the groundwater to asymptotic levels above the MCLs, became inoperable. EPA is currently investigating alternatives to the extraction and treatment of the bedrock groundwater in the Retained Portion of the Property.

Monitoring

To monitor the effect of both the overburden-soil source removal and the ten years of bedrock-groundwater extraction and treatment, long-term groundwater monitoring in both the overburden and bedrock aquifers is being performed annually. As noted above, because of the tight overburden formation, resulting in extremely-low groundwater yields, the overburden aquifer is not usable. Therefore, pursuant to the 1997 ROD, Federal and state groundwater standards are not applicable with respect to the overburden aquifer. With respect to the bedrock aquifer, groundwater VOC contaminant levels are below the 1997 ROD-specified Federal and state MCLs for Site-related constituents within the area of the Proposed Deleted Portion of the Property (see Table 2, below).

Table 2—1990 to Present
Bedrock well number | Total VOCs
PW-9 | ND
MW-3A | ND
MW-4A | ND
MW-13A | ND
MW-15A | ND

O&M for the bedrock-groundwater extraction-and-treatment system component of OU1 began in 2005. Per the O&M Manual, O&M for OU1 included inspection/maintenance procedures, schedules for proper operation, and influent and effluent monitoring to evaluate remedy performance. O&M of the system continued through 2014, at which point the system became inoperable and was turned off to explore alternatives to the extraction and treatment of the bedrock groundwater. The long-term monitoring components of the overburden (OU3) and bedrock (OU1) aquifers began in 2001 and has continued since that time.

Institutional Controls

With respect to institutional controls (ICs), the 1997 ROD called for the implementation of ICs to restrict the installation and use of groundwater wells at and downgradient of the Property until groundwater quality has been restored. The on-Property ICs were implemented through a March 2006 Declaration of Easements, Covenants and Restrictions (“deed restriction”) for the Property. As noted above, in August 2018 an ESD was issued to document EPA's determination to incorporate into the remedy an IC relating to vapor intrusion; toward this end, the Town of Vestal has agreed to notify EPA when there is a change in use relative to the Property and Off-Property areas.

With respect to areas downgradient of the Property, drinking water is provided by public supplies for the entire town. Town of Vestal code sec. 24-73.d requires all development (residential, commercial, industrial, etc.) to connect to the public drinking-water supply system in all areas of the Town where the public supply is available. The Property and the plume downgradient of the Property are in an area where the public drinking-water supply system is available. Further, the installation of any other groundwater-withdrawal well is restricted within areas of the Town designated as an “aquifer district” (Town of Vestal code sec. 23-518.a-c). The Property and the plume area downgradient of the Property are located within an “aquifer district.”

Five-Year Review

Contamination remains in the groundwater underlying the Property and in Off-Property areas above levels that would allow for unlimited use and unrestricted exposure. Therefore, pursuant to CERCLA Section 121(c), EPA is required to conduct a review of the remedy at least once every five years. Five-year reviews were conducted in 2006, 2011, and 2016. While the most recent five-year review concluded that there are no completed exposure pathways, a short-term protectiveness finding was made for the Site in light of recommendations that more information was needed relative to the off-Property overburden groundwater and the evaluation of alternatives to the existing extraction and treatment of bedrock groundwater remedy needed to be completed. Neither of these recommendations relate to the Proposed Deleted Portion of the Property.

The next five-year review is scheduled for 2021.

Community Involvement

Public participation activities for the Site have been satisfied as required pursuant to CERCLA Sections 113(k) and 117, 42 U.S.C. 9613(k) and 9617. As part of the three remedy selection processes, the public was invited to comment on the proposed remedies. All other documents and information that EPA relied on or considered in recommending this deletion are available for the public to review at the information repositories identified above.

Determination That a Portion of the Site Meets the Criteria for Deletion from the NPL

Because of the tight overburden formation, resulting in extremely-low groundwater yields, the overburden aquifer is not usable. Therefore, as reflected in the 1997 ROD, Federal and state MCLs are not applicable with respect to the overburden aquifer.

Because of the completion of all appropriate response actions in the overburden soil and overburden groundwater on the Property and because the bedrock aquifer underlying the Property outside the Retained Portion of the Property is not contaminated, and because there are appropriate institutional controls in place, EPA and NYSDEC have determined that these areas no longer pose a threat to public health or the environment. EPA and NYSDEC have concluded that this NOPD, which pertains only to the Proposed Deleted Portion of the Property, may proceed. The Retained Portion of the Property will remain on the NPL, as well as the Off-Property portions of the Site's overburden and bedrock aquifers. Because contamination remains in both the Property and Off-Property overburden and bedrock groundwater, groundwater monitoring, periodic IC verification, and five-year reviews will still be required, as will O&M activities, as necessary.

All the completion requirements for the Proposed Deleted Portion of the Property have been met, as described in the September 2001 soil Remedial Action Report, the September 2001 Preliminary Close-Out Report, and the 2006, 2011, and 2016 five-year review reports. The implemented remedy has achieved the degree of cleanup or protection specified in the OU1 and OU3 RODs for the Proposed Deleted Portion of the Property. The selected remedial action objectives and associated cleanup levels for the Proposed Deleted Portion of the Property are consistent with EPA policy and guidance. No further Superfund response for the Proposed Deleted Portion of the Property is needed to protect human health and the environment. The State of New York, in an August 9, 2018 letter from the NYSDEC, concurred with the proposed partial deletion of the Proposed Deleted Portion of the Property from the NPL.

The NCP specifies that EPA may delete a site from the NPL if all appropriate response under CERCLA has been implemented and no further response action is appropriate. 40 CFR 300.425(e)(1)(ii). EPA, with the concurrence of the State of New York, through NYSDEC, believes that this criterion for the deletion of the Proposed Deleted Portion of the Property has been met in that the soil on and the groundwater beneath the Proposed Deleted Portion of the Property no longer pose a threat to public health or the environment. Consequently, EPA is deleting the Proposed Deleted Portion of the Property from the NPL. Documents supporting this action are available in the Docket.

V. Deletion Action

EPA, with the concurrence of the State of New York, through NYSDEC, has determined that all appropriate responses under CERCLA have been completed at the Proposed Deleted Portion of the Property and that these media no longer pose a threat to public health or the environment. Therefore, EPA is deleting the Proposed Deleted Portion of the Property from the NPL. An approximately three-acre portion of the southwest On-Property bedrock aquifer (west of the former manufacturing building and warehouse and south of this area to Old Vestal Road) will remain on the NPL, as will the Off-Property portion of the Site's overburden and bedrock aquifers. Because contamination remains in both On-Property and Off-Property overburden and bedrock groundwater, groundwater monitoring and five-year reviews will still be required, as will O&M activities, as necessary. The partial deletion does not preclude future action under CERCLA. Because EPA considers this action to be noncontroversial and routine, EPA is taking this action without prior publication. This action will be effective May 13, 2019 unless EPA receives adverse comments by April 12, 2019. If adverse comments are received within the 30-day public comment period of this action, EPA will publish a timely withdrawal of this direct final NOPD before the effective date of the partial deletion and the deletion will not take effect. EPA will prepare a response to comments and, if no comments were received which warrant a change in EPA's decision with respect to the partial deletion, EPA will continue with the deletion process on the basis of the NOIPD and the comments received. In such a case, there will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: October 18, 2018.
Peter D. Lopez,
Regional Administrator, EPA Region 2.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “NY”, “Robintech, Inc./National Pipe Co.”, “Town of Vestal” to read as follows:

Appendix B to Part 300—National Priorities List

Table 1—General Superfund Section
State | Site name | City/County | Notes (a)
* * * * * * *
NY | Robintech, Inc./National Pipe Co. | Town of Vestal | P
* * * * * * *

(a) * * *

* * * * *

*P = Sites with partial deletion(s).

* * * * *

Editorial note: This document was received for publication by the Office of the Federal Register on March 7, 2019.

[FR Doc. 2019-04511 Filed 3-12-19; 8:45 am]

BILLING CODE 6560-50-P